DEPARTMENT OF THE INTERIOR

Fish and Wildlife Service

[FWS-R1-ES-2010-N072; 10120-1113-0000-C2]

Endangered and Threatened Wildlife and Plants; Recovery Plan for the Prairie Species of Western Oregon and Southwestern Washington

AGENCY: Fish and Wildlife Service, Interior.

ACTION: Notice of document availability.

SUMMARY: We, the U.S. Fish and Wildlife Service, announce the availability of the approved Recovery Plan for the Prairie Species of Western Oregon and Southwestern Washington. The recovery plan addresses three endangered and three threatened species. This plan includes recovery objectives and criteria, and specific recovery actions necessary to achieve downlisting and delisting of the species, and their removal from the Federal List of Endangered and Threatened Wildlife and Plants. The plan also supplements the existing recovery plan for one threatened species, providing recommendations for reintroducing it to its historical range.

ADDRESSES: An electronic copy of the recovery plan is available at http://endangered.fws.gov/recovery/index.html#plans. Copies of the recovery plan are also available by request from the U.S. Fish and Wildlife Service, Oregon Fish and Wildlife Office, 2600 SE 98th Avenue, Suite 100, Portland, OR 97266 (phone: 503-231-6179). Printed copies of the recovery plan will be available for distribution within 4 to 6 weeks.

FOR FURTHER INFORMATION CONTACT: Cat Brown, Fish and Wildlife Biologist, at the above Portland address and telephone number.

SUPPLEMENTARY INFORMATION: We announce the availability of the approved Recovery Plan (plan) for the Prairie Species of Western Oregon and Southwestern Washington. The plan addresses three endangered and three threatened species, and includes recovery objectives and criteria, and specific recovery actions necessary to achieve downlisting and delisting of the species and their removal from the Federal List of Endangered and Threatened Wildlife and Plants. The plan also supplements the existing recovery plan for one of the included threatened species, Castilleja levisecta, providing recommendations for reintroducing it to its historical range in the Willamette Valley.

The recovery plan addresses the following three species listed as endangered: Fender's blue butterfly (Icaricia icairoides fenderi), Erigeron decumbens var. decumbens (Willamette daisy), and Lomatium bradshawii (Bradshaw's lomatium). The plan addresses the following three threatened species: Lupinus sulphureus ssp. kincaidii (Kincaid's lupine), Sidalcea nelsoniana (Nelson's checker-mallow), and Castilleja levisecta (golden paintbrush).

Background

Recovery of endangered or threatened animals and plants is the primary goal of the Endangered Species Act (Act) (16 U.S.C. 1531 et seq.) and our endangered species program. Recovery means improvement of the status of listed species to the point at which listing is no longer required under the criteria set out in section 4(a)(1) of the Act and its implementing regulations at 50 CFR 424. Recovery plans describe actions considered necessary for the conservation of listed species, establish criteria for downlisting or delisting species, and estimate time and cost for implementing the measures needed for recovery.

The Act requires the development of recovery plans for endangered or threatened species unless such a plan would not promote the conservation of the species. Section 4(f) of the Act requires public notice, and an opportunity for public review and comment, during recovery plan development. From September 22, 2008, through December 22, 2008, we provided the draft Recovery Plan for the Prairie Species of Western Oregon and Southwestern Washington to the public and solicited comments (see Federal Register notices 73 FR 54603 of September 22, 2008, and 73 FR 58975 of October 8, 2008). We considered information we received during the public comment period and comments from peer reviewers in our preparation of the recovery plan, and have summarized that information in Appendix F of the approved recovery plan. We welcome continuing public comment on this recovery plan, and we will consider all substantive comments on an ongoing basis to inform the implementation of recovery activities and future updates to the recovery plan.

The native prairies of western Oregon and southwestern Washington are among the most imperiled ecosystems in the United States. Six native prairie species in the region—one butterfly and five plants—have been added to the Federal List of Endangered and Threatened Wildlife and Plants since 1988. In this recovery plan, we elucidate our recovery strategies and objectives for Fender's blue butterfly (Icaricia icairoides fenderi), Erigeron decumbens var. decumbens (Willamette daisy), Lomatium bradshawii (Bradshaw's lomatium), Lupinus sulphureus ssp. kincaidii (Kincaid's lupine), Sidalcea nelsoniana (Nelson's checker-mallow), and Castilleja levisecta (golden paintbrush). This plan replaces and supersedes previously approved recovery plans for Lomatium bradshawii and Sidalcea nelsoniana. It also augments, but does not replace, the existing recovery plan for Castilleja levisecta: this new Prairie Species Recovery Plan provides recommendations for the reintroduction of Castilleja levisecta into its historical range in the Willamette Valley, consistent with this species' published recovery plan. In addition to recovery strategies for the six listed species, the plan recommends conservation strategies for one candidate species, Taylor's checkerspot butterfly (Euphydryas editha taylori), and six plant species of concern: Delphinium leucophaeum (pale larkspur), Delphinium oreganum (Willamette Valley larkspur), Delphinium pavonaceum (peacock larkspur), Horkelia congesta ssp. congesta (shaggy horkelia), Sericocarpus rigidus (white-topped aster), and Sisyrinchium hitchcockii (Hitchcock's blue-eyed grass). All of the species addressed in this recovery plan are threatened by the continued degradation, loss, and fragmentation of their native prairie ecosystems.

We developed the draft recovery plan in coordination with the Western Oregon and Southwestern Washington Prairie Species Recovery Team, which includes representatives from two Department of the Interior bureaus (U.S. Fish and Wildlife Service and Bureau of Land Management), two State agencies (Washington Department of Natural Resources and Oregon Department of Transportation), the Confederated Tribes of the Grande Ronde Community of Oregon, Washington State University, and the academic and private sectors.

Our recovery strategy for the species addressed in this recovery plan is to protect remaining fragments of upland and wet prairie habitats and to restore them to fully functioning prairie ecosystems. The recovery plan calls for viable populations of the listed prairie species to be protected in a series of recovery zones distributed across their historical ranges. Recovery actions will include habitat management, restoration of historical disturbance regimes, control of noxious nonnative plants, carefully planned reintroductions, population monitoring, active research, and public involvement and outreach. The recovery actions are designed to ameliorate threats and increase population sizes of Fender's blue butterfly, Lupinus sulphureus ssp. kincaidii, Erigeron decumbens var. decumbens, Lomatium bradshawii, Sidalcea nelsoniana, and Castilleja levisecta to achieve recovery goals, which, if successful, will allow their eventual delisting (removal from the List of Endangered and Threatened Wildlife and Plants).

The widespread loss and degradation of prairie habitats in western Oregon and southwestern Washington have been responsible for the decline of many other plant and animal species associated with these communities. We believe that a holistic ecosystem-management approach to the restoration of prairie habitats will not only contribute to the recovery of the listed prairie species, but that such management will also contribute to the protection of populations of the associated prairie species of concern discussed in this plan, as well as other native prairie species.

Authority: The authority for this action is section 4(f) of the Endangered Species Act, 16 U.S.C. 1533 (f).

Dated: June 7, 2010.
Carolyn A. Bohan,
Acting Regional Director, Region 1, U.S. Fish and Wildlife Service.

[FR Doc. 2010-15766 Filed 6-28-10; 8:45 am]

BILLING CODE 4310-55-P